DEPARTMENT OF HEALTH AND HUMAN SERVICES

Administration for Children and Families

Amendment to Information Collection Activity; Comment Request

Title: Subsidized and Transitional Employment Demonstration (STED) and Enhanced Transitional Jobs Demonstration (ETJD).

OMB No.: 0970-0413.

Description: The Administration for Children and Families (ACF) within the U.S. Department of Health and Human Services (HHS) has launched a national evaluation called the Subsidized and Transitional Employment Demonstration (STED). At the same time, the Employment and Training Administration (ETA) within the Department of Labor (DOL) is conducting an evaluation of the Enhanced Transitional Jobs Demonstration (ETJD). ACF and ETA are collaborating on these evaluations, which will inform the Federal government about the effectiveness of subsidized and transitional employment programs in helping vulnerable populations secure unsubsidized jobs in the labor market and achieve self-sufficiency. The projects will evaluate up to twelve subsidized and transitional employment programs nationwide.

In 2011, ETA awarded grants to seven transitional jobs programs as part of the ETJD, which is testing the effect of combining transitional jobs with enhanced services to assist ex-offenders and noncustodial parents improve labor market outcomes, reduce criminal recidivism and improve family engagement.

The STED and ETJD projects have complementary goals and are focusing on related program models and target populations. Thus, ACF and ETA have agreed to collaborate on the design of data collection instruments to promote consistency across the projects. In addition, two of the seven DOL-funded ETJD programs will be evaluated as part of the STED project.

The proposed amended information collection described here will be used for sites in the STED project that target young adults (aged 18 to 25). It is being submitted by ACF on behalf of both collaborating agencies. Data for the study is collected from the following three major sources, approved by OMB October 2012:

1—Baseline Forms. These include an informed consent form, which requires signature; a contact sheet to obtain contact information for people who may help locate a respondent for follow-up surveys; and a baseline information form, to collect demographic data and information on the subject's work and education history.

2—Follow-Up Surveys. There are three follow-up surveys in each of the STED and ETJD sites (including the two sites that are also part of ETJD), approximately 6, 12, and 30 months after study entry. In addition to the surveys, each respondent will be contacted once by mail to provide updated contact information.

3—Implementation Research and Site Visits. Data on the context for the programs and their implementation is collected during two rounds of site visits, including interviews, focus groups, observations, and case file reviews. These data will be supplemented by short questionnaires for program staff, clients, worksite supervisors, and participating employers, and a time study for program staff.

The purpose of this document is to request comment on alternate versions of the 6 and 12 month surveys for use at study sites whose population consists of young adults, aged 18 to 25 only. We plan to measure outcomes that are particularly relevant to youth, for example, outcomes related to attitudes, self confidence, and psycho-social development that may be important predictors of later performance in the labor market, education, etc.

Respondents: Respondents to the alternate versions of the 6 and 12 month surveys include young adults, aged 18-25.

Annual Burden Estimates

Note: No additional burden is requested from the already approved information collection.

Instrument | Annual number of respondents | Number of responses per respondent | Average burden hours per response | Total annual burden hours ¹
6-month survey:
Youth Respondents (amended version) | 533 | 1 | .5 | 267
Adult Respondents (already approved) | 1,334 | 1 | .5 | 667
12-month survey:
Youth Respondents (amended version) | 533 | 1 | .75 | 400
Adult Respondents (already approved) | 2,667 | 1 | .75 | 2,000
Total Burden for Surveys | 5,067 |  |  | 3,334
¹ Rounding may cause slight discrepancies between annual and total estimated burden hours.

In compliance with the requirements of Section 3506(c)(2)(A) of the Paperwork Reduction Act of 1995, the Administration for Children and Families and the Employment and Training Administration are e soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) Whether the proposed collection of information is necessary for the proper performance of the functions of the agencies, including whether the information shall have practical utility; (b) the accuracy of the agencies's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-05772 Filed 3-14-13; 8:45 am]

BILLING CODE 4184-09-M